DEPARTMENT OF ENERGY

Federal Energy Regulatory Commission

[Docket No. EL00-62-048, et al.]

ISO New England Inc., et al.; Electric Rate and Corporate Regulation Filings

July 17, 2002.

The following filings have been made with the Commission. The filings are listed in ascending order within each docket classification.

1. New England Power Pool

[Docket No. ER98-3853-015]

Take notice that on July 12, 2002, ISO New England Inc. submitted a corrected compliance filing revising an earlier compliance filing made by the ISO on July 9, 2002 in the above-referenced dockets.

Comment Date: August 2, 2002.

2. Great Bay Power Corporation; Little Bay Power Corporation

[Docket Nos. ER98-3470-001 and ER99-3050-001]

Take notice that on July 12, 2002, Great Bay Power Corporation and Little Bay Power Corporation tendered for filing their triennial market power updates in support of authorization to engage in wholesale sales of electric energy and market-based rates.

Comment Date: August 2, 2002.

3. Tenaska Gateway Partners, Ltd.

[Docket No. ER99-2992-001]

Take notice that on July 15, 2002, Tenaska Gateway Partners, Ltd., (Tenaska Gateway) submitted for filing with the Federal Energy Regulatory Commission (Commission) its triennial updated market analysis in accordance with Appendix B of the Commission's Order in Front Range Associates, LLC.

Questions concerning this filing may be directed to counsel for Tenaska Gateway, Neil L. Levy, Kirkland & Ellis, 655 Fifteenth Street, NW, Suite 1200, Washington, DC 20005, Phone (202) 879-5116, Fax (202) 879-5200, e-mail Neil_Levy@dc.kirkland.com.

Comment Date: August 5, 2002.

4. Alcoa Power Generating Inc.

[Docket No. ER00-1372-001]

Take notice that on July 15, 2002, Alcoa Power Generating Inc. (APGI) tendered for filing its triennial market power update in support of authorization to engage in wholesale sales of electric energy at market based prices.

Comment Date: August 5, 2002.

5. Geysers Power Company, LLC

[Docket No. ER01-812-002]

Take notice that on July 11, 2002, Geysers Power Company, LLC filed a refund report in compliance with the Commission's order in this proceeding dated June 12, 2002.

Comment Date: August 1, 2002.

6. Nevada Power Company

[Docket Nos. ER01-2754-004, ER01-2755-004, ER01-2758-004, and ER01-2759-004 (Not Consolidated)]

Take notice that on July 12, 2002, Nevada Power Company (Nevada Power) filed, pursuant to section 205 of the Federal Power Act and the Federal Energy Regulatory Commission's (Commission) Order dated June 12, 2002, in the above-referenced proceedings, transmission service agreements that have been revised in accordance with the settlement approved by the Commission in its June 12, 2002 Order. Also included in the same filing is a Notice of Termination, filed by Nevada Power pursuant to section 35.15 of the Commission's Regulations, of Service Agreement No. 95 between Nevada Power and Calpine Corporation. Nevada Power requests that this agreement be terminated as of June 12, 2002, which is the date that the Commission accepted the settlement providing for the termination of the agreement.

Comment Date: August 2, 2002.

7. Garnet Energy LLC

[Docket No. ER02-1119-002]

Take notice that on July 11, 2002, Garnet Energy LLC (Garnet) filed a Compliance Filing of Supply Margin Assessment with the Federal Regulatory Commission (the Commission), regarding the Application for Market-Based Rate Authority filed February 26, 2002, seeking acceptance of Garnet's FERC Rate Schedule No. 1 and the granting of certain blanket approvals, including the authority to sell energy and capacity at market-based rates and the waiver of certain Commission regulations. The filing was submitted in accordance with the letter order dated April 22, 2002.

Comment Date: August 1, 2002.

8. American Electric Power Service Corporation

[Docket No. ER02-1575-001]

Take notice that on July 12, 2002, American Electric Power Service Corporation submitted for filing an Amended Interconnection and Operation Agreement between Appalachian Power Company (APCo) and Allegheny Energy Supply Company, LLC, in compliance with the Commission's June 13, 2002 Order Conditionally Accepting Interconnection Agreement for Filing and Ordering Compliance Filing in the above-referenced docket. The agreement is pursuant to the AEP Companies' Open Access Transmission Service Tariff (OATT) that has been designated as the Operating Companies of the American Electric Power System FERC Electric Tariff Second Revised Volume No. 6, effective June 15, 2000.

APCo requests an effective date of June 16, 2002. Copies of APCo's filing have been served upon Allegheny Energy Supply Company, LLC and upon Virginia State Corporation Commission.

Comment Date: August 2, 2002.

9. Southeast Chicago Energy Project, LLC

[Docket No. ER02-2017-001]

Take notice that on July 12, 2002, Southeast Chicago Energy Project, LLC (Southeast Chicago) filed supplemental information requested by Federal Energy Regulatory Commission.

Comment Date: August 2, 2002.

10. Entergy Services, Inc.

[Docket No. ER02-2123-001]

Take notice that on July 11, 2002, Entergy Services, Inc., on behalf of Entergy Arkansas, Inc., Entergy Gulf States, Inc., Entergy Louisiana, Inc., Entergy Mississippi, Inc., and Entergy New Orleans, Inc. (collectively Entergy), tendered for filing fully executed copies of the Network Integration Transmission Service Agreement between the Entergy Operating Companies and the City of North Little Rock, Arkansas (the City), and the Network Operating Agreement between Entergy and the City, which had been previously submitted for filing in this docket.

Comment Date: August 1, 2002.

11. Consolidated Edison Company Of New York, Inc. (Complainant)

[Docket No. ER02-2126-002]

Take notice that on July 12, 2002, Consolidated Edison Company of New York, Inc. (Con Edison) tendered for filing in the captioned proceeding a revised unexecuted Interconnection Agreement (Agreement) between Con Edison and PSEG Power In-City I, LLC (PSEG Power).

Con Edison requested that the revised Agreement be allowed to become effective September 1, 2002. Con Edison states that copies of the filing were served upon PSEG Power, the New York Independent System Operator, and the New York Public Service Commission.

Comment Date: August 2, 2002.

12. Lake Road Generating Company, L.P.

[Docket No. ER02-2130-001]

Take notice that on July 15, 2002, Lake Road Generating Company, L.P., (Lake Road) filed with the Federal Energy Regulatory Commission (Commission) its Electric Purchase/Sale Agreement with its affiliate PG&E Energy Trading—Power, L.P. (PGET) for wholesale sales.

Comment Date: August 5, 2002.

13. Zion Energy, LLC

[Docket No. ER02-2178-001]

Take notice that on July 11, 2002, Zion Energy, LLC (Zion) filed an amendment to its filing of June 27, 2002 of an executed power sales agreement under which it makes wholesale sales of electric energy to Calpine Energy Services, L.P. at market-based rates.

Comment Date: August 1, 2002.

14. Entergy Services, Inc.

[Docket No. ER02-2308-000]

Take notice that on July 11, 2002, Entergy Services, Inc., on behalf of Entergy Louisiana, Inc., tendered for filing an unexecuted Interconnection and Operating Agreement with Bayou Verret Energy, L.L.C. (Bayou Verret), and a Generator Imbalance Agreement with Bayou Verret.

Comment Date: August 1, 2002.

15. Whitewater Hill Wind Partners, LLC

[Docket No. ER02-2309-000]

Take notice that on July 11, 2002, Whitewater Hill Wind Partners, LLC (Whitewater) applied to the Federal Energy Regulatory Commission (Commission) for acceptance of Whitewater's Electric Tariff FERC No. 1; the granting of certain blanket approvals, including the authority to sell electric energy and capacity at market-based rates; and the waiver of certain Commission Regulations. Whitewater also submitted a long-term power purchase agreement between Whitewater and the California Department of Water Resources for acceptance as a service agreement under the market-based rate tariff.

Comment Date: August 1, 2002.

16. Crescent Ridge LLC

[Docket No. ER02-2310-000]

Take notice that on July 11, 2002, Crescent Ridge LLC (Crescent Ridge) applied to the Federal Energy Regulatory Commission (Commission) for acceptance of Crescent Ridge's Electric Tariff FERC No. 1; the granting of certain blanket approvals, including the authority to sell electric energy and capacity at market-based rates; and the waiver of certain Commission regulations.

Comment Date: August 1, 2002.

17. Avista Corporation

[Docket No. ER02-2311-000]

Take notice that on July 12, 2002, Avista Corporation (Avista Corp) tendered for filing with the Federal Energy Regulatory Commission (Commission) an unexecuted Service Agreement under Avista Corp's FERC Electric Tariff First Revised Volume No. 10, with Seattle City Light with an assigned Service Agreement No. 293. The unexecuted Service Agreement will be replaced by an executed Service Agreement upon approval and receipt from the Seattle City Light.

Avista Corporation requests waiver of the prior notice requirements and requests an effective date of April 1, 2002. Notice has been sent to Seattle City Light.

Comment Date: August 2, 2002.

18. Aquila, Inc.

[Docket No. ER02-2312-000]

Take notice that on July 12, 2002, Aquila, Inc. (Aquila) tendered for filing Service Agreement No. 109 under Aquila's FERC Electric Tariff, Third Revised Volume No. 24, a short-term firm point-to-point transmission service agreement between Aquila's Missouri Public Service division and Keeney Creek Energy Associates, LLC.

UtiliCorp requests an effective date for the service agreement of July 15, 2002.

Comment Date: August 2, 2002.

19. Southwestern Electric Power Company

[Docket No. ER02-2313-000]

Take notice that on July 12, 2002, Southwestern Electric Power Company (SWEPCO) tendered for filing with the Federal Energy Regulatory Commission (Commission) proposed tariff changes in its Rate Schedule FERC No. 72, applicable to transmission service rendered to Arkansas Electric Cooperative Corporation (AECC) under the Flint Creek Power Plant Power Coordination, Interchange and Transmission Service Agreement (Flint Creek Agreement). SWEPCO has proposed decreased rates (calculated in accordance with the formula contained in the Flint Creek Agreement).

SWEPCO requests an effective date of July 1, 2001, and, accordingly, seeks waiver of the Commission's notice requirements. A copy of the filing was served on AECC and the Arkansas Public Service Commission.

Comment Date: August 2, 2002.

20. RockGen Energy LLC

[Docket No. ER02-2314-000]

Take notice that on July 12, 2002, RockGen Energy LLC (the Applicant) tendered for filing, under section 205 of the Federal Power Act, a rate schedule for system support services, whereby it would make available to American Transmission Company, an emergency redispatch service and a reactive power service.

Comment Date: August 2, 2002.

21. Public Service Company of New Mexico

[Docket No. ER02-2316-000]

Take notice that on July 15, 2002, Public Service Company of New Mexico (PNM) submitted for filing an executed Network Integration Transmission Service Agreement (NITSA) and an associated Network Operating Agreement (NOA) with PNM's Wholesale Bulk Power Marketing and Development Department (PNMM), dated June 30, 2002, under the terms of PNM's Open Access Transmission Tariff (OATT). The purpose of the NITSA and NOA is to facilitate delivery of electric service by PNMM to the City of Gallup, New Mexico (Gallup) under the Amended and Restated Agreement for Electric Service between PNMM and Gallup (the PNMM-Gallup Agreement). Service under the PNMM-Gallup Agreement commenced on July 1, 2002, and PNM is requesting that same date as the effective date for the NITSA and NOA. PNM's filing is available for public inspection at its offices in Albuquerque, New Mexico.

A copy of this filing has been served upon PNMM and informational copies have been sent to Gallup, the New Mexico Public Regulation Commission and the New Mexico Attorney General.

Comment Date: August 5, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-18649 Filed 7-23-02; 8:45 am]

BILLING CODE 6717-01-P